DEPARTMENT OF TRANSPORTATION

National Highway Traffic Safety Administration

49 CFR Parts 571 and 585

[Docket No. NHTSA-2016-0125]

RIN 2126-AK93

Federal Motor Vehicle Safety Standards; Minimum Sound Requirements for Hybrid and Electric Vehicles

AGENCY: National Highway Traffic Safety Administration (NHTSA), Department of Transportation (DOT).

ACTION: Final rule; delay of effective date.

SUMMARY: In accordance with the Presidential directive as expressed in the memorandum of January 20, 2017, from the Assistant to the President and Chief of Staff, entitled “Regulatory Freeze Pending Review,” this action temporarily delays until September 5, 2017, the effective date of the final rule titled “Federal Motor Vehicle Safety Standards; Minimum Sound Requirements for Hybrid and Electric Vehicles,” initially scheduled to become effective on February 13, 2017.

DATES: The effective date of the final rule published on December 14, 2016 (81 FR 90416), is delayed until September 5, 2017. The initial compliance date is September 1, 2018, with full phase in by September 1, 2019.

FOR FURTHER INFORMATION CONTACT: For legal issues, contact Thomas Healy, Office of Chief Counsel, at (202) 366-2992. For non-legal issues, contact Mike Pyne, Office of Rulemaking, at (202) 366-4171.

SUPPLEMENTARY INFORMATION: NHTSA bases this action in part on the Presidential directive expressed in the memorandum of January 20, 2017, from the Assistant to the President and Chief of Staff, entitled “Regulatory Freeze Pending Review” (the January 20, 2017 memorandum). That memorandum directed the heads of Executive Departments and Agencies to temporarily postpone for 60 days from the date of the memorandum the effective dates of certain regulations that had been published in the Federal Register, but had not yet taken effect. Because the original effective date of the final rule published on December 14, 2016, fell within that 60-day window, the effective date of the rule was extended to March 21, 2017, in a final rule published on February 6, 2017 (82 FR 9368). The effective date was again extended to May 22, 2017, in a final rule published March 21, 2017 (82 FR 14477). The effective date was further extended until June 5, 2017, in a final rule published May 22, 2017 (82 FR 23150). Consistent with the memorandum of the Assistant to the President and Chief of Staff, and as stated in the February 6, 2017, final rule delaying the effective date, the Agency further delays the effective date of this regulation until September 5, 2017.

This delay of the effective date of the final rule is also based on the need to allow additional time to respond to several petitions for reconsideration filed in response to the final rule. These responses will provide regulated entities with greater certainty as to the requirements of the Minimum Sound Requirements for Hybrid and Electric Vehicles final rule prior to the rule coming into effect. Delaying the effective date of the final rule to allow additional time to respond to these petitions for reconsideration is prudent in this instance because the petitions concern topics such as the date by which manufacturers are required to comply with the rule's requirements and the stringency of the requirements themselves, both of which impact manufacturers' compliance plans.

The Agency's implementation of this action without opportunity for public comment is based on the good cause exceptions in 5 U.S.C. 553(b)(B) and 553(d)(3), in that seeking public comment is impracticable, unnecessary and contrary to the public interest. The delay in the effective date until September 5, 2017, is necessary to provide the opportunity for further review and consideration of this new regulation, consistent with the January 20, 2017 memorandum. Given the imminence of the effective date of the “Federal Motor Vehicle Safety Standards; Minimum Sound Requirements for Hybrid and Electric Vehicles” final rule, seeking prior public comment on this temporary delay would be impractical, as well as contrary to the public interest in the orderly promulgation and implementation of regulations.

Authority: 49 U.S.C. 322, 30111, 30115, 30117, and 30116; delegation of authority at 49 CFR 1.95.

Terry T. Shelton,
Acting Executive Director.

[FR Doc. 2017-11732 Filed 6-2-17; 4:15 pm]

BILLING CODE 4910-59-P